DEPARTMENT OF COMMERCE

International Trade Administration

[A-570-806]

Silicon Metal From the People's Republic of China: Initiation of New-Shipper Antidumping Administrative Review

AGENCY: Import Administration, International Trade Administration, Department of Commerce.

ACTION: Notice of Initiation of New-Shipper Antidumping Administrative Review.

SUMMARY: The Department of Commerce (the Department) has received a request from Groupstars Chemical L.L.C. (Groupstars) to conduct a new-shipper administrative review of the antidumping duty order on silicon metal from the People's Republic of China (PRC). In accordance with 19 CFR 351.214(d) of the Department's regulations, we are initiating this administrative review.

EFFECTIVE DATE: August 16, 2000.

FOR FURTHER INFORMATION CONTACT: Thomas Gilgunn or Scott Lindsay, AD/CVD Enforcement, Import Administration, International Trade Administration, U.S. Department of Commerce, 14th Street and Constitution Avenue, N.W., Washington, D.C. 20230; telephone: (202) 482-0648 or (202) 482-3782 respectively.

The Applicable Statute and Regulations

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR Part 351, (1999).

Background

On June 30, 2000, the Department received a timely request, in accordance with section 751(a)(2)(B) of the Act and 19 CFR 351.214(c), for a new shipper review of this antidumping duty order which has a June anniversary date.

Pursuant to 19 CFR 351.214(b)(2)(i) and 19 CFR 351.214(b)(2)(iii)(A), Groupstars' June 30, 2000 request for review certified that it did not export the subject merchandise to the United States during the period of investigation (POI) and that it is not affiliated with any company which exported subject merchandise to the United States during the POI. Pursuant to 19 CFR 351.214(b)(2)(iii)(B), Groupstars' request certified that its export activities are not controlled by the central government of the PRC.

In addition, pursuant to 19 CFR 351.214(b)(2)(iv)(A)-(C), Groupstars' request contained documentation establishing: the date after the period of investigation on which Groupstars first shipped the subject merchandise for export to the United States, the volume of that shipment, and the date of the first sale to an unaffiliated customer in the United States.

Initiation of Review

In accordance with section 751(a)(2)(B) and 19 CFR 351.214(d), we are initiating a new-shipper review of the antidumping duty order on silicon metal from the PRC. Therefore, we intend to issue the preliminary results of this review not later than 180 days after the date on which the review is initiated.

Pursuant to 19 CFR 351.214(g)(A) of the Department's regulations, the period of review (POR) for a new-shipper review initiated in the month immediately following the annual anniversary month will be the twelve-month period immediately preceding the annual anniversary month. Therefore, the POR for this new-shipper is:

Antidumping duty proceeding | Period to be reviewed
Silicon Metal from the PRC, A-570-806: |
Groupstars Chemical L.L.C | 6/01/99-5/31/00

Concurrent with publication of this notice and in accordance with 19 CFR 351.214(e), we will instruct the U.S. Customs Service to allow, at the option of the importer, the posting of a bond or security in lieu of a cash deposit for each entry of the merchandise exported by the companies listed above, until the completion of the review.

Interested parties must submit applications for disclosure under administrative protective order in accordance with 19 CFR 351.305 and 351.306.

This initiation and notice are in accordance with section 751(a) of the Act (19 U.S.C. 1675(a)) and 19 CFR 351.214.

Dated: August 10, 2000.
Joseph A. Spetrini,
Deputy Assistant Secretary For Import Administration.

[FR Doc. 00-20831 Filed 8-15-00; 8:45 am]

BILLING CODE 3510-DS-P